DEPARTMENT OF THE TREASURY

Fiscal Service

Surety Companies Acceptable on Federal Bonds: Change In Business Address Colonial Surety Company

AGENCY: Bureau of the Fiscal Service, Fiscal Service, Department of the Treasury.

ACTION: Notice.

SUMMARY: This is Supplement No. 4 to the Treasury Department Circular 570, 2015 Revision, published July 1, 2015, at 80 FR 37735.

FOR FURTHER INFORMATION CONTACT: Surety Bond Branch at (202) 874-6850.

SUPPLEMENTARY INFORMATION: Notice is hereby given by the Treasury that COLONIAL SURETY COMPANY formally changed its “BUSINESS ADDRESS” to: 123 Tice Boulevard, Suite 250, Woodcliff Lake, NJ 07677.

Federal bond-approving officers should annotate their reference copies of the Treasury Department Circular 570 (“Circular”), 2015 revision, to reflect this change.

The Circular may be viewed and downloaded through the Internet at www.fiscal.treasury.gov/fsreports/ref/suretyBnd/surety_home.htm.

Questions concerning this notice may be directed to the U.S. Department of the Treasury, Financial Management Service, Funds Management Division, Surety Bond Branch, 3700 East-West Highway, Room 6D22, Hyattsville, MD 20782.

Dated: November 2, 2015.
Kevin McIntyre,
Manager, Financial Accounting and Services Branch.

[FR Doc. 2015-29299 Filed 11-16-15; 8:45 am]

BILLING CODE 4810-AS-P